Title 3—

The President

Proclamation 9578 of March 17, 2017

National Poison Prevention Week, 2017

By the President of the United States of America

A Proclamation

The United States has made great strides in preventing unintentional childhood poisoning deaths. Thanks to combined national, State, and local efforts over the course of years, Americans have reduced childhood fatalities related to accidental poisoning in the United States from 200 deaths per year to 27 per year, which is an 88 percent decline. From a public health perspective, this is a resounding achievement.

Fifty-five years ago, President John F. Kennedy noted that virtually all deaths attributable to accidental poisoning could be prevented. He was right—we as a society must do much more to prevent tragic and preventable loss of life from occurring. Ensuring the safety and security of the American people requires that we unequivocally commit to a continuation of the successful policies that have reduced accidental childhood poisonings and injuries.

This week we warn all Americans about unintended exposure to poisons and the threat of household items unintentionally being turned into deadly weapons. This is an important reminder—and one that could save lives.

To encourage Americans to learn more about the dangers of unintentional poisonings and to take appropriate preventative measures, on September 26, 1961, the Congress, by joint resolution (75 Stat. 681), authorized and requested the President to issue a proclamation designating the third week of March each year as, “National Poison Prevention Week.”

NOW, THEREFORE, I, DONALD J. TRUMP, do hereby proclaim March 19 through March 25, 2017, as National Poison Prevention Week. I call upon all Americans to observe this week by taking actions to safeguard our families from poisonous products, chemicals, and medicines found in our homes.

IN WITNESS WHEREOF, I have hereunto set my hand this seventeenth day of March, in the year of our Lord two thousand seventeen, and of the Independence of the United States of America the two hundred and forty-first.

[FR Doc. 2017-05859

Filed 3-21-17; 11:15 am]

Billing code 3295-F7-P